DEPARTMENT OF TRANSPORTATION

Federal Aviation Administration

14 CFR Part 39

[Docket No. FAA-2020-1105; Project Identifier AD-2020-01459-T]

RIN 2120-AA64

Airworthiness Directives; Airbus SAS Airplanes

AGENCY: Federal Aviation Administration (FAA), DOT.

ACTION: Notice of proposed rulemaking (NPRM).

SUMMARY: The FAA proposes to remove Airworthiness Directive (AD) 2020-25-03, which applies to all Airbus SAS Model A318, A319, A320, and A321 series airplanes. AD 2020-25-03 requires repetitive checks of the pressure gauges on the inflation reservoir of each emergency escape slide/raft to determine the amount of pressure, and applicable corrective actions. AD 2020-25-03 also provides optional terminating action for the repetitive checks. AD 2020-25-03 is no longer necessary because the unsafe condition no longer exists. Accordingly, the FAA proposes to remove AD 2020-25-03.

DATES: The FAA must receive comments on this proposed AD by August 1, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

Examining the AD Docket

You may examine the AD docket at https://www.regulations.gov by searching for and locating Docket No. FAA-2020-1105; or in person at Docket Operations between 9 a.m. and 5 p.m., Monday through Friday, except Federal holidays. The AD docket contains this proposed AD, any comments received, and other information. The street address for Docket Operations is listed above.

FOR FURTHER INFORMATION CONTACT: Dan Rodina, Aerospace Engineer, Large Aircraft Section, International Validation Branch, FAA, 2200 South 216th St., Des Moines, WA 98198; telephone and fax 206-231-3225; email Dan.Rodina@faa.gov.

SUPPLEMENTARY INFORMATION:

Comments Invited

The FAA invites you to send any written relevant data, views, or arguments about this proposal. Send your comments to an address listed under ADDRESSES. Include “Docket No. FAA-2020-1105; Project Identifier AD-2020-01459-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Dan Rodina, Aerospace Engineer, Large Aircraft Section, International Validation Branch, FAA, 2200 South 216th St., Des Moines, WA 98198; telephone and fax 206-231-3225; email Dan.Rodina@faa.gov. Any commentary that the FAA receives that is not specifically designated as CBI will be placed in the public docket for this rulemaking.

Background

EASA, which is the Technical Agent for the Member States of the European Union, previously issued AD 2020-0236, dated October 27, 2020 (EASA AD 2020-0236) (also referred to as the Mandatory Continuing Airworthiness Information, or the MCAI), to correct an unsafe condition for all Airbus SAS Model A318 series airplanes; Model A319-111, -112, -113, -114, -115, -131, -132, -133, -151N, -153N, and -171N airplanes; Model A320-211, -212, -214, -215, -216, -231, -232, -233, -251N, -252N, -253N, -271N, -272N, and -273N airplanes; and Model A321 series airplanes.

The FAA issued corresponding AD 2020-25-03, Amendment 39-21345 (85 FR 79415, December 10, 2020) (AD 2020-25-03), for those airplanes except for Model A319-153N and A320-215 airplanes, which are not included on the U.S. type certificate data sheet. AD 2020-25-03 requires repetitive checks of the pressure gauges on the inflation reservoir of each emergency escape slide/raft to determine the amount of pressure, and applicable corrective actions. AD 2020-25-03 also provides optional terminating action for the repetitive checks. AD 2020-25-03 was prompted by a report of a loud bang heard during airplane boarding. A subsequent inspection revealed that one emergency escape slide/raft was found with zero reservoir pressure due to a burst rupture disk assembly in the inflation reservoir, which was probably caused by a manufacturing defect. The FAA issued AD 2020-25-03 to address insufficient reservoir pressure in an emergency escape slide/raft, which would prevent the deployment of the emergency escape slide/raft during an emergency, possibly resulting in injury to the occupants.

Actions Since AD 2020-25-03 Was Issued

Since the FAA issued AD 2020-25-03, EASA issued AD 2020-0236-CN, dated May 16, 2022, to cancel EASA AD 2020-0236. EASA has advised the FAA that SAFRAN Aerosystems, the manufacturer of the affected parts, produced service information with instructions for replacement of the rupture disk during overhaul of the affected parts. EASA reports that no rupture disk failures have occurred in service or during overhaul. Consequently, new risk analysis determined that an unsafe condition no longer exists that would warrant AD action.

On March 16, 2022, the FAA issued Special Airworthiness Information Bulletin (SAIB) 2022-06 to recommend replacement of the affected parts during overhaul.

FAA's Conclusions

Upon further consideration, the FAA has determined that AD 2020-25-03 is no longer appropriate. Accordingly, this proposed AD would remove AD 2020-25-03. Removal of AD 2020-25-03 would not preclude the FAA from issuing another related action or commit the FAA to any course of action in the future.

Related Costs of Compliance

This proposed AD would add no cost. This proposed AD would remove AD 2020-25-03 from 14 CFR part 39; therefore, operators would no longer be required to show compliance with that AD.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive AD 2020-25-03, Amendment 39-21345 (85 FR 79415, December 10, 2020), and

b. Adding the following new airworthiness directive:

Airbus SAS: Docket No. FAA-2020-1105; Project Identifier AD-2020-01459-T.

(a) Comments Due Date

The FAA must receive comments on this AD action by August 1, 2022.

(b) Affected Airworthiness Directive (AD)

This AD replaces AD 2020-25-03, Amendment 39-21345 (85 FR 79415, December 10, 2020).

(c) Applicability

This AD applies to all Airbus SAS airplanes, certificated in any category, identified in paragraphs (c)(1) through (4) of this AD.

(1) Model A318-111, -112, -121, and -122 airplanes.

(2) Model A319-111, -112, -113, -114, -115, -131, -132, -133, -151N, and -171N airplanes.

(3) Model A320-211, -212, -214, -216, -231, -232, -233, -251N, -252N, -253N, -271N, -272N, and -273N airplanes.

(4) Model A321-111, -112, -131, -211, -212, -213, -231, -232, -251N, -252N, -253N, -271N, -272N, -251NX, -252NX, -253NX, -271NX, and -272NX airplanes.

(d) Related Information

For more information about this AD, contact Dan Rodina, Aerospace Engineer, Large Aircraft Section, International Validation Branch, FAA, 2200 South 216th St., Des Moines, WA 98198; telephone and fax 206-231-3225; email Dan.Rodina@faa.gov.

Issued on June 10, 2022.
Christina Underwood,
Acting Director, Compliance & Airworthiness Division, Aircraft Certification Service.

[FR Doc. 2022-12935 Filed 6-15-22; 8:45 am]

BILLING CODE 4910-13-P